DEPARTMENT OF HOMELAND SECURITY

Federal Emergency Management Agency

[Docket ID FEMA-2023-0002; Internal Agency Docket No. FEMA-B-2392]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 25, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2392, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Fairfield County, Connecticut (All Jurisdictions)
Project: 16-01-0277S Preliminary Date: July 26, 2023
City of Bridgeport | City Hall Annex, 999 Broad Street, Bridgeport, CT 06604.
City of Danbury | City Hall, 155 Deer Hill Avenue, Danbury, CT 06810.
City of Norwalk | Planning and Zoning Department, 125 East Avenue, Norwalk, CT 06851.
City of Shelton | City Hall, 54 Hill Street, Shelton, CT 06484.
City of Stamford | Government Center, 888 Washington Boulevard, Stamford, CT 06901.
Town of Bethel | Clifford J. Hurgin Municipal Center, 1 School Street, Bethel, CT 06801.
Town of Darien | Town Hall, 2 Renshaw Road, Darien, CT 06820.
Town of Easton | Town Hall, 225 Center Road, Easton, CT 06612.
Town of Fairfield | John J. Sullivan Independence Hall, 725 Old Post Road, Fairfield, CT 06824.
Town of Greenwich | Town Hall, 101 Field Point Road, Greenwich, CT 06830.
Town of Monroe | Town Hall, 7 Fan Hill Road, Monroe, CT 06468.
Town of New Canaan | Town Hall, 77 Main Street, New Canaan, CT 06840.
Town of Newtown | Municipal Center, 3 Primrose Street, Newtown, CT 06470.
Town of Redding | Town Hall, 100 Hills Road, Redding, CT 06875.
Town of Ridgefield | Town Hall, 400 Main Street, Ridgefield, CT 06877.
Town of Stratford | Town Hall, 2725 Main Street, Stratford, CT 06615.
Town of Trumbull | Town Hall, 5866 Main Street, Trumbull, CT 06611.
Town of Weston | Town Hall, 56 Norfield Road, Weston, CT 06883.
Town of Westport | Town Hall, 110 Myrtle Avenue, Westport, CT 06880.
Town of Wilton | Town Hall, 238 Danbury Road, Wilton, CT 06897.
Yates County, New York (All Jurisdictions)
Project: 19-02-0013S Preliminary Date: May 01, 2023
Town of Barrington | Barrington Town Hall, 4424 Bath Road, Penn Yan, NY 14527.
Town of Benton | Benton Town Hall, 1000 Route 14A, Penn Yan, NY 14527.
Town of Italy | Italy Town Hall, 6060 Italy Valley Road, Naples, NY 14512.
Town of Jerusalem | Jerusalem Town Hall, 3816 Italy Hill Road, Branchport, NY 14418.
Town of Middlesex | Town Hall, 1216 Route 245, Middlesex, NY 14507.
Town of Milo | Milo Town Hall, 137 Main Street, Penn Yan, NY 14527.
Town of Potter | Potter Town Hall, 1226 Phelps Road, Middlesex, NY 14507.
Town of Starkey | Starkey Town Hall, 40 Seneca Street, Dundee, NY 14837.
Town of Torrey | Torrey Town Building, 56 Geneva Street, Dresden, NY 14441.
Village of Dresden | Village Office, 3 Firehouse Avenue, Dresden, NY 14441.
Village of Dundee | Code Officers Office, 12 Union Street, Dundee, NY 14837.
Village of Penn Yan | Municipal Building, 111 Elm Street, Penn Yan, NY 14527.
Lunenburg County, Virginia and Incorporated Areas
Project: 20-03-0028S Preliminary Date: May 18, 2023
Unincorporated Areas of Lunenburg County | Lunenburg County Administration, 11413 Courthouse Road, Lunenburg, VA 23952.

[FR Doc. 2023-28369 Filed 12-22-23; 8:45 am]

BILLING CODE 9110-12-P